DEPARTMENT OF THE TREASURY

Submission for OMB Review; Comment Request

September 13, 2011.

The Department of the Treasury will submit the following public information collection requirement to OMB for review and clearance under the Paperwork Reduction Act of 1995, Public Law 104-13 on or after the date of publication of this notice. A copy of the submission may be obtained by calling the Treasury Bureau Clearance Officer listed. Comments regarding these information collections should be addressed to the OMB reviewer listed and to the Treasury PRA Clearance Officer, Department of the Treasury, 1750 Pennsylvania Avenue, NW., Suite 11010, Washington, DC 20220.

Dates: Written comments should be received on or before October 19, 2011 to be assured of consideration.

Financial Management Service (FMS)

OMB Number: 1510-0052.

Type of Review: Extension without change of a currently approved collection.

Title: Financial Institution Agreement and Application Forms for Designation as a Treasury Tax and Loan Depositary and Resolution.

Forms: FMS Forms 458 and 459.

Abstract: Financial institutions are required to complete an agreement and application to participate in the Federal Tax Deposit/Treasury Tax and Loan Program. The approved application designates the depositary as an authorized recipient of taxpayers' deposits for Federal taxes.

Affected Public: Private Sector: Businesses or other for-profits.

Estimated Total Burden Hours: 225.

Bureau Clearance Officer: Wesley Powe, Financial Management Service, 3700 East West Highway, Room 144, Hyattsville, MD 20782; (202) 874-8936.

OMB Reviewer: Shagufta Ahmed, Office of Management and Budget, New Executive Office Building, Room 10235, Washington, DC 20503; (202) 395-7873.

Dawn D. Wolfgang,
Treasury PRA Clearance Officer.

[FR Doc. 2011-23905 Filed 9-16-11; 8:45 am]

BILLING CODE 4810-35-P